DEPARTMENT OF AGRICULTURE

USDA Forest Service

Notice of Meeting; Siskiyou Resource Advisory Committee Meetings to Resume in January

SUMMARY: The Siskiyou County Resource Advisory Committee (RAC) will hold its first meeting in 2011 on January 17th.

DATES: The meeting will be held on January 17th, 2011 and will begin at 4 p.m.

ADDRESSES: The meeting will be held at the Klamath National Forest Supervisor's Office, Conference Room, 1312 Fairlane Road, Yreka, CA.

FOR FURTHER INFORMATION CONTACT: Kerry Greene, Committee Coordinator, USDA, Klamath National Forest, Supervisor's Office, 1312 Fairlane Road, Yreka, CA 96097. (530) 841-4484; E-MAIL kggreene@fs.fed.us.

SUPPLEMENTARY INFORMATION: The agenda includes project updates and financial status, and presentation and review of new project proposals to be considered by the RAC. The meeting is open to the public. Opportunity for public comment will be provided and individuals will have the opportunity to address the Committee at that time.

Dated: December 10, 2010.
Kelly Russell,
Deputy Forest Supervisor.

[FR Doc. 2010-31897 Filed 12-17-10; 8:45 am]

BILLING CODE 3410-11-P